DEPARTMENT OF THE INTERIOR

Bureau of Indian Affairs

[201A2100DD/AAKC001030/A0A51010.999900]

Proclaiming Certain Lands as Reservation for the Shakopee Mdewakanton Sioux Community of Minnesota

AGENCY: Bureau of Indian Affairs, Interior.

ACTION: Notice of reservation proclamation.

SUMMARY: This notice informs the public that the Assistant Secretary—Indian Affairs proclaimed approximately 218.65 acres, more or less, an addition to the reservation of the Shakopee Mdewakanton Sioux Community on June 10, 2020.

FOR FURTHER INFORMATION CONTACT: Ms. Sharlene M. Round Face, Bureau of Indian Affairs, Division of Real Estate Services, 1001 Indian School Road NE, Box #44, Albuquerque, New Mexico 87111, telephone (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The land was proclaimed to be the Shakopee Reservation for the Shakopee Mdewakanton Sioux Community of Minnesota, Scott County, and State of Minnesota.

Shakopee Reservation for the Shakopee Mdewakanton Sioux Community of Minnesota

1 Parcel

Fifth Principal Meridian, Scott County, Minnesota

Legal Descriptions Containing 218.65 Acres, More or Less

Inyan Ceyaka Otonwe (ICO) Parcel, 411 T 1027

Parcel ID Numbers: 25-204-0011, 25-904-0160, 25-904-0170, 25-904-0180, 25-904-0190, 25-905-0170, 25-905-0180, 25-905-0190, 25-905-0200, 25-932-0160, 25-932-0170, 25-932-0171, 25-932-0172, 25-932-0173, 25-933-0010, 25-933-0011, 25-933-0012, 25-933-0013, 25-933-0015, 25-933-0016, 25-933-0020, 25-933-0030, 25-933-0060, 25-933-0061, 25-933-0062.

HECKER Parcel 1

That part of Government Lot 3, Section 32, Township 115 North, Range 22 West of the 5th P.M., Scott County, Minnesota, which lies southerly of Registered Land Survey No. 153, and easterly of the Plat of Howard Lake Estates, according to the United States Government Survey thereof and situate in Scott County, Minnesota.

AND

That part of Lot 1, Block 1, Howard Lake Estates, described as commencing at the Northeast corner of said Lot 1; thence on an assumed bearing of South 3 degrees 38 minutes 22 seconds West, along the east line of said Lot 1, a distance of 115.97 feet to the actual point of beginning of the land to be described; thence South 26 degrees 02 minutes 55 seconds West a distance of 75.05 feet; thence South 56 degrees 08 minutes 26 seconds East a distance of 33.11 feet to the east line of said Lot 1; thence North 3 degrees 38 minutes 22 seconds East, along the east line of said Lot 1, a distance of 86.05 feet to the actual point of beginning, according to the recorded plat thereof, and situate in Scott County, Minnesota.

Being registered land as is evidenced by Certificate of Title No. 43938.

HECKER Parcel 2

That part of Government Lot 4, Section 32, Township 115 North, Range 22 West of the 5th P.M., Scott County, Minnesota and that part of Government Lot 1 Section 5, Township 114 North, Range 22 West of the 5th P.M., Scott County, Minnesota, lying Northerly and Westerly of the following described line: Beginning at a point on the East line of said Government Lot 4, distant 323.60 feet South of the Northeast corner of said Lot 4, thence deflecting to the right (as measured south to west) at an angle of 98 degrees 44 minutes 00 seconds, a distance of 380.43 feet; thence in a southwesterly direction a distance of 2347.11 feet to a point on the westerly extension of the South line of said Government Lot 1, distance 544.40 feet west of the Southeast corner thereof and there terminating, according to the United States Government Survey thereof and situate in Scott County, Minnesota.

Abstract Property.

AND

SAKUMA Parcel 1

The North One-Half of the Southwest Quarter (N ½ of SW ¼) of Section 33, Township 115 North, Range 22 West of the Fifth Principal Meridian, Scott County, Minnesota, EXCEPT the following described tracts:

Tract 1: A tract on the West side of the Northwest Quarter of the Southwest Quarter, said tract to be 2 rods wide and 40 rods more or less in length beginning at the Northwest corner of said Southwest Quarter and running south along said west line of said Southwest Quarter until it intersects the Shakopee and Spring Lake Road, the same to be used for road purposes, all in Section 33, Township 115 North, Range 22 West of the fifth Principal Meridian, Scott County, Minnesota.

Tract 2: A tract of land in the Southwest Quarter of Section 33, Township 115 North, Range 22 West of the Fifth Principal Meridian, Scott County, Minnesota, described as follows: Commencing at the Northwest corner of said Section 33; thence South along the West line of said Section 33, 2939.6 feet to the actual point of beginning, thence continuing South 401.4 feet to the north right of way of County Road 10; thence Southeasterly along said right of way 108.0 feet; thence Northeasterly at right angles to said County Road 10, 105.0 feet; thence Northwesterly parallel to said County Road 10, 492.4 feet to the actual point of beginning.

Tract 3: The North 26.66 rods (or 440 feet) of the North Half of the Southwest Quarter, Section 33, Township 115 North, Range 22 West of the Fifth Principal Meridian, Scott County, Minnesota.

Tract 4: The East 33 rods of the South 53.34 rods of the Northeast Quarter of the Southwest Quarter of Section 33, Township 115 North, Range 22 West of the Fifth Principal Meridian, Scott County, Minnesota.

Abstract Property.

SAKUMA Parcel 2

All that part of the Southwest Quarter of the Southwest Quarter (SW¼ of SW¼) of Section 33, Township 115 North, Range 22 West of the Fifth Principal Meridian, Scott County, Minnesota, lying Northerly of County Road 81, as now located, except the East 180 feet thereof.

Abstract Property.

SAKUMA Parcel 3

The West Half of the Northwest Quarter of the Southeast Quarter EXCEPT the West Thirty-six (36) rods of the North 26.66 (or 440 feet) thereof; and the East 33 rods of the Northeast Quarter of the Southwest Quarter EXCEPT the North 26.66 rods (or 440 feet thereof); all in Section 33, Township 115 North, Range 22 West of the Fifth Principal Meridian, Scott County, Minnesota. Together with a perpetual easement for ingress and egress for both pedestrian and vehicular travel, and for construction and maintenance of a roadway and of utility installations over and across the North 33 feet of the East Half of the Northwest Quarter of the Southeast Quarter of Section 33, Township 115 North, Range 22 West of the Fifth Principal Meridian, Scott County, Minnesota.

Abstract Property.

AND

MICKO Parcel

The Easterly 180 feet of that part of the SW¼ of the SW¼ of Section 33, Township 115 North, Range 22 West of the Fifth Principal Meridian, Scott County, Minnesota, according to the United States Government Survey thereof and situate in Scott County, Minnesota, lying Northerly of the center line of County Road No. 14 as now laid out.

Abstract Property.

AND

MENDEN2 Parcel A

That part of the Southwest Quarter of the Southwest Quarter of Section 33, Township 115 North, Range 22 West of the Fifth Principal Meridian, Scott County, Minnesota, lying southwesterly of the public road (formerly County Road 81); and northwesterly of the following described line: Commencing at the northwest corner of said Southwest Quarter of the Southwest Quarter; thence South 01 degree 32 minutes 24 seconds East, assumed bearing, along the west line of said Southwest Quarter of the Southwest Quarter a distance of 323.60 feet to the point of beginning of the line to be described; thence North 43 degrees 24 minutes 42 seconds East to the north line of said Southwest Quarter of the Southwest Quarter and there terminating.

Abstract Property.

MENDEN2 Parcel B

That part of the Southwest Quarter of the Southwest Quarter of Section 33, Township 11 North, Range 22 West of the Fifth Principal Meridian, Scott County, Minnesota described as follows:

Beginning at the southwest corner of said Southwest Quarter of the Southwest Quarter; thence North 89 degrees 12 minutes 12 seconds East (assumed bearing) along the south line of said Southwest Quarter of the Southwest Quarter a distance of 1135.15 feet to the west line of the east 198.00 feet of said Southwest Quarter of the Southwest Quarter; thence northerly along said west line of the east 198.00 feet a distance of 744 feet more of less to the centerline of County Road No. 81; thence northwesterly along said centerline to its intersection with a line drawn North 43 degrees 22 minutes 02 seconds East from the point of beginning; thence South 43 degrees 22 minutes 02 seconds West a distance of 1276.41 feet to the point of beginning.

Abstract Property.

MENDEN2 Parcel C

That part of the Northwest Quarter of the Northwest Quarter of Section 4, Township 114 North, Range 22 West of the Fifth Principal Meridian, Scott County, Minnesota described as follows:

Beginning at the northwest corner of the east 132.00 feet of said Northwest Quarter of the Northwest Quarter; thence southerly along the west line of said east 132.00 feet a distance of 66.00 feet to the south line of the north 66.00 feet of said Northwest Quarter of the Northwest Quarter; thence South 89 degrees 12 minutes 12 seconds West along said south line of the north 66.00 feet a distance of 476.74 feet; thence South 00 degrees 31 minutes 54 seconds East a distance of 320.00 feet; thence South 4 degrees 06 minutes 06 seconds West a distance of 913.98 feet to the south line of said Northwest Quarter of the Northwest Quarter; thence south 88 degrees 57 minutes 29 seconds West along said south line of the Northwest Quarter of the Northwest Quarter a distance of 230.69 feet to a point distant 913.29 feet west of the southeast corner of said Northwest Quarter of the Northwest Quarter; thence North 00 degrees 14 minutes 57 seconds West a distance of 913.06 feet; thence North 00 degrees 31 minutes 54 seconds West a distance of 384.61 feet to the north line of said Northwest Quarter of the Northwest Quarter; thence easterly along said north line a distance of 776.74 feet to the point of beginning. Together with that part of the west 66.00 feet of the east 198.00 feet of the Southwest Quarter of the Southwest Quarter of Section 33, Township 115 North, Range 22 West of the Fifth Principal Meridian, Scott County, Minnesota.

Abstract Property.

MENDEN2 Parcel E

That part of the Northwest Quarter of the Northwest Quarter of Section 4, Township 114 North, Range 22 West of the Fifth Principal Meridian, Scott County, Minnesota and that part of Government Lot 1, Section 5, Township 114 North, Range 22 West of the Fifth Principal Meridian, Scott County, Minnesota described as follows:

Beginning at the northwest corner of the east 66.00 feet of said Government Lot 1; thence southerly along the west line of said east 66.00 feet to the south line of the north 66.00 feet of said Government Lot 1; thence easterly along said south line of the north 66.00 feet a distance of 66.00 feet to the east line of said Government Lot 1, the same being the west line of said Northwest Quarter of the Northwest Quarter; thence easterly along the south line of the north 66.00 feet of said Northwest Quarter of the Northwest Quarter a distance of 124.24 feet; thence southerly a distance of 1232.90 feet to a point on the south line of said Northwest Quarter of the Northwest Quarter distant 121.16 feet east of the southwest corner; thence North 88 degrees 57 minutes 29 seconds East along said south line a distance of 295.51 feet to a point distant 913.29 feet west of the southeast corner of said Northwest Quarter of the Northwest Quarter; thence North 00 degrees 14 minutes 57 seconds West a distance of 913.06 feet; thence North 00 degrees 31 minutes 54 seconds West a distance of 384.61 feet to the north line of said Northwest Quarter of the Northwest Quarter; thence westerly along said north line a distance of 424.41 feet to the northwest corner of said Northwest Quarter of the Northwest Quarter; thence westerly along the north line of said Government Lot 1, a distance of 66.00 feet to the point of beginning.

Together with that part of Government Lot 4, Section 32, Township 115 North, Range 22 West of the Fifth Principal Meridian, Scott County, Minnesota and that part of the Southwest Quarter of the Southwest Quarter of Section 33, Township 115 North, Range 22 West of the Fifth Principal Meridian, Scott County, Minnesota described as follows:

A strip of land 66.00 feet in width the west and northwesterly line of which is described as follows: Beginning at the southwest corner of the east 66.00 feet of said Government Lot 4; thence North 1 degree 32 minutes 24 seconds West along the west line of said east 66.00 feet a distance of 724.26 feet; thence North 43 degrees 24 minutes 42 seconds East a distance of 697.80 feet to the centerline of County Road No. 81 and there terminating. The side line of said tract shall be extended or shortened as required to provide a full 66.00 feet width from the south line of Government Lot 4 to and along the centerline of County Road No. 81.

Abstract Property.

MENDEN2 Parcel G

The land referred to is situated in the State of Minnesota, County of Scott, and is described as that part of the Southwest Quarter of the Southwest Quarter of Section 33, Township 115 North, Range 22 West of the Fifth Principal Meridian, Scott County, Minnesota described as follows:

Beginning at the southwest corner of said Southwest Quarter of the Southwest Quarter; thence North 01 degrees 32 minutes 24 seconds West (assumed bearing) along the west line of said Southwest Quarter of the Southwest Quarter a distance of 696.79 feet; thence North 43 degrees 24 minutes 42 seconds East a distance of 679 feet more or less to the centerline of County Road No. 81; thence southeasterly along said centerline to its intersection with a line drawn North 43 degrees 22 minutes 02 seconds East from the point of beginning; thence South 43 degrees 22 minutes 02 seconds West a distance of 1276.41 feet to the point of beginning.

Abstract Property.

MENDEN2 Parcel H

That part of the Northwest Quarter of the Northwest Quarter of Section 4, Township 114 North, Range 22 West of the Fifth Principal Meridian, Scott County, Minnesota and that part of the Southwest Quarter of the Southwest Quarter of Section 33, Township 115 North, Range 22 West of the Fifth Principal Meridian, Scott County, Minnesota described as follows:

Beginning at the southeast corner of said Northwest Quarter of the Northwest Quarter; thence South 88 degrees 57 minutes 29 seconds West along the south line of said Northwest Quarter of the Northwest Quarter a distance of 398.94 feet; thence North 00 degrees 16 minutes 39 seconds West a distance of 721.64 feet; thence North 35 degrees 58 minutes 57 seconds East a distance of 554.13 feet to the west line of the east 66.00 feet of said Northwest Quarter of the Northwest Quarter; thence northerly along said west line of the east 66.00 feet to the north line of said Northwest Quarter of the Northwest Quarter; thence northerly along the west line of the east 66.00 feet of said Southwest Quarter of the Southwest Quarter a distance of 612.25 feet to the centerline of County Road No. 81; thence southeasterly along said centerline to the east line of said Southwest Quarter of the Southwest Quarter; thence southerly along said east line to the southeast corner of said Southwest Quarter of the Southwest Quarter, the same being the northeast corner of said Northwest Quarter of the Northwest Quarter; thence southerly along the east line of said Northwest Quarter of the Northwest Quarter to the point of beginning.

Abstract Property.

MENDEN2 Parcel I

That part of Government Lot 1, Section 5, Township 114 North, Range 22 West of the Fifth Principal, Scott County, Minnesota and that part of the Northwest Quarter of the Northwest Quarter of Section 4, Township 114 North, Range 22 West of the Fifth Principal, Scott County, Minnesota described as follows:

Beginning at the northwest corner of the east 66.00 feet of said Government Lot 1; thence southerly along the west line of said east 66.00 feet to the south line of the north 66.00 feet of said Government Lot 1; thence easterly along said south line of the north 66.00 feet a distance of 66.00 feet to the east line of said Government Lot 1, the same being the west line of said Northwest Quarter of the Northwest Quarter; thence easterly along the south line of the north 66.00 feet of said Northwest Quarter of the Northwest Quarter a distance of 124.24 feet; thence southerly a distance of 1232.90 feet to a point on the south line of said Northwest Quarter of the Northwest Quarter distant 121.16 feet east of the southwest corner; thence westerly along said south line a distance of 121.16 feet to said southwest corner; thence South 88 degrees 24 minutes 26 seconds West along the south line of said Government Lot 1, a distance of 184.42 feet; thence North 00 degrees 31 minutes 54 seconds West a distance of 1233.15 feet to the south line of the north 66.00 feet of said Government Lot 1; thence easterly along said south line a distance of 49.34 feet to the west line of the east 132.00 feet of said Government Lot 1; thence northerly along the west line of said east 132.00 feet a distance of 66.00 feet to the north line of said Government Lot 1; thence easterly along the north line of said Government Lot 1, a distance of 66.00 feet to the point of beginning.

Together with that part of Government Lot 4, Section 32, Township 115 North, Range 22 West of the Fifth Principal Meridian, Scott County, Minnesota and that part of the Southwest Quarter of the Southwest Quarter of Section 33, Township 115 North, Range 22 West of the Fifth Principal Meridian, Scott County, Minnesota described as follows: A strip of land 66.00 feet in width the west and northwesterly line of which is described as follows:

Beginning at the southwest corner of the east 132.00 feet of said Government Lot 4; thence North 1 degree 32 minutes 24 seconds West along the west line of said east 132.00 feet a distance of 751.74 feet; thence North 43 degrees 24 minutes 42 seconds East a distance of 717.22 feet to the centerline of County Road No. 81. The side line of said tract shall be extended or shortened as required to provide a full 66.00 feet width from the south line of Government Lot 4 to and along the centerline of County Road No. 81.

Abstract Property.

MENDEN2 Parcel J

That part of Government Lot 1, Section 5, Township 114 North, Range 22 West of the Fifth Principal Meridian, Scott County, Minnesota lying easterly of the following described line:

Beginning at a point on the east line of Government Lot 4, Section 32, Township 115 North, Range 22 West of the Fifth Principal Meridian, Scott County, Minnesota, distant 323.60 feet southerly of the northeast corner of said Lot 4; thence deflecting to the right (as measured south to west) at an angle of 98 degrees 44 minutes 00 seconds a distance of 380.43 feet; thence in a southwesterly direction a distance of 2347.11 feet to a point on the westerly extension of the south line of said Government Lot 1, distant 544.40 feet west of the southeast corner thereof and there terminating. And westerly of the following described line: Commencing at the southeast corner of said Government Lot 1; thence South 88 degrees 24 minutes 26 seconds West along the south line of said Government Lot 1, a distance of 184.42 feet to the point of beginning of the line to be described thence North 00 degrees 31 minutes 54 seconds West a distance of 1233.15 feet to the south line of the north 66.00 feet of said Government Lot 1; thence easterly along said south line of the north 66.00 feet a distance of 49.34 feet to the west line of the east 132.00 feet of said Government Lot 1; thence northerly along the west line of said east 132.00 feet to the north line of said Government Lot 1, and there terminating.

Together with that part of Government Lot 4, Section 32, Township 115 North, Range 22 West of the Fifth Principal Meridian, Scott County, Minnesota and that part of the Southwest Quarter of the Southwest Quarter of Section 33, Township 115 North, Range 22 West of the Fifth Principal Meridian, Scott County, Minnesota described as follows:

A strip of land 66.00 feet in width the easterly and southeasterly line of which is described as follows: Beginning at the southwest corner of the east 132.00 feet of said Government Lot 4; thence North 01 degree 32 minutes 24 seconds West along the west line of said east 132.00 feet a distance of 751.74 feet; thence North 43 degrees 24 minutes 42 seconds East a distance of 717.22 feet to the centerline of County Road No. 81, and there terminating. The side line of said tract shall be extended or shortened as required to provide a full 66.00 feet width from the south line of Government Lot 4, to and along the centerline of County Road No. 81.

Abstract Property.

MENDEN2 Parcel K

The part of the Northwest Quarter of the Northwest Quarter of Section 4, Township 114 North, Range 22 West of the Fifth Principal Meridian, Scott County, Minnesota described as follows:

Commencing at the southeast corner of said Northwest Quarter of the Northwest Quarter; thence South 88 degrees 57 minutes 29 seconds West along the south line of said Northwest Quarter of the Northwest Quarter a distance of 398.94 feet to the point of beginning of the land to be described; thence North 00 degrees 16 minutes 39 seconds West a distance of 721.64 feet; thence North 35 degrees 58 minutes 57 seconds East a distance of 554.13 feet to the west line of the east 66.00 feet of said Northwest Quarter of the Northwest Quarter; thence northerly along said west line of the east 66.00 feet a distance of 129.99 feet to the north line of said Northwest Quarter of the Northwest Quarter; thence westerly along said north line a distance of 66.00 feet to the west line of the east 132.00 feet of said northwest Quarter of the Northwest Quarter; thence southerly along said west line of the east 132.00 feet a distance of 66.00 feet to the south line of the north 66.00 feet of said Northwest Quarter of the Northwest Quarter; thence South 89 degrees 12 minutes 12 seconds West along said south line of the north 66.00 feet a distance of 476.74 feet; thence South 00 degrees 31 minutes 54 seconds East a distance of 320.00 feet; thence South 4 degrees 06 minutes 06 seconds west a distance of 913.98 feet to the south line of said Northwest Quarter of the Northwest Quarter; thence North 88 degrees 57 minutes 29 seconds East along said south line a distance of 283.66 feet to the point of beginning. Together with that part of the west 66.00 feet of the east 132.00 feet of the Southwest Quarter of the Southwest Quarter of Section 33, Township 115 North, Range 22 West of the Fifth Principal Meridian, Scott County, Minnesota lying southerly of the centerline of County Road No. 81.

Abstract Property.

MENDEN2 Parcel L

That part of Government Lot 4, Section 32, Township 115 North, Range 22 West of the Fifth Principal Meridian, Scott County, Minnesota lying south and east of the following described line:

Beginning at a point on the east line of said Government Lot 4, distant 323.60 feet southerly of the northeast corner of said Lot 4; thence deflecting to the right (as measured south to west) at an angle of 98 degrees 44 minutes 00 seconds a distance of 380.43 feet; thence in a southwesterly direction a distance of 234 7.11 feet to a point on the westerly extension of the south line of Government Lot 1, a distance of 544.40 feet west of the southeast corner thereof and there terminating, and westerly and northwesterly of the following described line: Beginning at the southwest corner of the east 198.00 feet of said Government Lot 4; thence North 01 degree 32 minutes 24 seconds West along the west line of said east 198.00 feet a distance of 779.22 feet; thence North 43 degrees 24 minutes 42 seconds East a distance of 280.25 feet to the east line of said Government Lot 4, and there terminating.

Together with: An easement for driveway purposes over and across that part of Government Lot 4, Section 32, Township 115 North, Range 22 West of the Fifth Principal Meridian, Scott County, Minnesota and that part of the Southwest Quarter of the Southwest Quarter of Section 33, Township 115 North, Range 22 West of the Fifth Principal Meridian, Scott County, Minnesota described as follows:

A strip of land 60.00 feet in width, the centerline of which is described as follows: Commencing at the southwest corner of the east 198.00 feet of said Government Lot 4; thence North 1 degree 32 minutes 24 seconds West along the west line of said east 198.00 feet a distance of 775.00 feet; thence South 61 degrees 27 minutes 00 seconds West a distance of 10.00 feet to the point of beginning of the line to be described; thence North 61 degrees 27 minutes 00 seconds East a distance of 448.00 feet, thence North 51 degrees 27 minutes 00 seconds East a distance of 351 feet, more or less, to the centerline of County Road No. 81, and there terminating.

Abstract Property.

The above described lands contain a total of 218.65 acres, more or less, which are subject to all valid rights, reservations, rights-of-way, and easements of record.

This proclamation does not affect title to the lands described above, nor does it affect any valid existing easements for public roads, highways, public utilities, railroads and pipelines, or any other valid easements or rights-of-way or reservations of record.

Tara Sweeney,
Assistant Secretary—Indian Affairs.

[FR Doc. 2020-14483 Filed 7-6-20; 8:45 am]

BILLING CODE 4337-15-P